DEPARTMENT OF TRANSPORTATION

Federal Aviation Administration

14 CFR Part 39

[Docket No. 2000-NM-402-AD; Amendment 39-12997; AD 2002-26-09]

RIN 2120-AA64

Airworthiness Directives; Boeing Model 757-200 Series Airplanes

AGENCY: Federal Aviation Administration, DOT.

ACTION: Final rule.

SUMMARY: This amendment adopts a new airworthiness directive (AD), applicable to certain Boeing Model 757-200 series airplanes with stowage bins installed forward of door 2 at Station 680. This AD requires a one-time inspection to determine if a certain intercostal is installed for support of the overhead stowage bin(s) at Station 680, and follow-on actions, if necessary. This action is necessary to prevent failure of the stowage bin attachment fitting at Station 680, which could result in the overhead stowage bin falling onto the passenger seats below and injuring passengers or impeding the evacuation of passengers in an emergency. This action is intended to address the identified unsafe condition.

DATES: Effective February 10, 2003.

The incorporation by reference of certain publications listed in the regulations is approved by the Director of the Federal Register as of February 10, 2003.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: David Crotty, Aerospace Engineer, Airframe Branch, ANM-120S, FAA, Seattle Aircraft Certification Office, 1601 Lind Avenue, SW., Renton, Washington 98055-4056; telephone (425) 227-1675; fax (425) 227-1181.

SUPPLEMENTARY INFORMATION: A proposal to amend part 39 of the Federal Aviation Regulations (14 CFR part 39) to include an airworthiness directive (AD) that is applicable to certain Boeing Model 757-200 series airplanes with stowage bins installed forward of door 2 at Station 680 was published in the Federal Register on May 15, 2002 (67 FR 34639). That action proposed to require a one-time inspection to determine if a certain intercostal is installed for support of the overhead stowage bin(s) at Station 680, and follow-on actions, if necessary.

Comments

Interested persons have been afforded an opportunity to participate in the making of this amendment. Due consideration has been given to the comments received. One commenter states that it offers no comments because it does not operate any affected airplanes.

Extend Compliance Time for Installation of Intercostal(s)

Several commenters request that the FAA extend the compliance time for installation of the intercostal(s), if necessary, from 24 months to 60 months after the effective date of the AD. The commenters point out that the time required to gain access for installing the intercostal(s) is significant (the commenters estimate 65 work hours is needed to gain access, install, and close up), and the proposed 24-month compliance time would not allow most operators to accomplish the proposed actions during a heavy maintenance visit. The commenters also state that, based on preliminary inspections, a significant portion of the airplane fleet may be without the subject intercostal. To ensure that an acceptable level of safety is maintained if the compliance time is extended to 60 months, the commenters recommend accomplishment of repetitive inspections for cracking every 18 months.

The FAA concurs that extending the compliance time for the installation of the intercostal(s) is an acceptable alternative to requiring installation of the intercostal(s) within 24 months after the effective date of this AD, provided that repetitive inspections for cracking are performed until the intercostal is installed. Therefore, we have revised paragraph (b) in this final rule to add subparagraphs (b)(1) and (b)(2), which specify the compliance alternatives.

Reduce Compliance Time for One-Time Inspection

The same commenters who request extension of the compliance time for installing the intercostal also request that we reduce the compliance time from 24 months to 12 months for the one-time inspection to determine if the subject intercostal is installed. One of the commenters explains that reducing the compliance time in this way would ensure that any structural damage is found and fixed in a timely manner.

We do not concur with the request to reduce the compliance time for the one-time inspection. In developing an appropriate compliance time for this AD, we considered not only the manufacturer's recommendation, but the degree of urgency associated with addressing the subject unsafe condition, and the time necessary to perform the inspection. In light of all of these factors, we find a 24-month compliance time for completing the required inspection to be warranted, in that it represents an appropriate interval of time allowable for affected airplanes to continue to operate without compromising safety. No change is necessary in this regard.

Request To Allow Stop-Drilling of Cracks

Two commenters request that we revise paragraph (c) of the proposed AD to allow stop-drilling of any crack that is found, instead of requiring repair before further flight. The commenters state that, following stop-drilling of the crack, the affected overhead stowage bin could be blocked out until an interim repair is installed within 90 days. The commenters state no justification for this request, but one commenter notes that the stowage bins at Station 680 on its airplanes are above a galley, so no passenger sits under the subject stowage bins.

We do not concur with the commenters' request. The commenters provide no data to substantiate that their request would provide an acceptable level of safety. However, an affected operator may request approval of an alternative method of compliance as provided by paragraph (d) of this AD. We may consider approving such an alternative method of compliance if data are submitted to support that an alternative repair method would provide an acceptable level of safety. No change is necessary in this regard.

Request To Issue Supplemental NPRM

The commenters who request extension of the compliance time for installation of the intercostal, reduction of the compliance time for the initial inspection, and inclusion of a provision for stop-drilling cracks, recommend that we issue a supplemental NPRM, supported by a revised service bulletin.

We do not concur with the commenters' request. Under the provisions of the Administrative Procedure Act, we issue a supplemental NPRM and reopen the period for public comment when we determine that a change to a proposed AD will either increase the economic burden on an operator or increase the scope of the proposed AD. The change that we are making to this AD—extension of the compliance time for installing the intercostal—does not increase the economic burden on any operator nor does it expand the scope of the proposed AD. Also, the airplane manufacturer has not issued a revised service bulletin. For these reasons, as well as the potentially adverse effect on safety that delaying issuance of this final rule may cause, we find it unnecessary to issue a supplemental NPRM. Thus, no change has been made in this regard.

Conclusion

After careful review of the available data, including the comments noted above, we have determined that air safety and the public interest require the adoption of the rule with the change previously described. We have determined that this change will neither increase the economic burden on any operator nor increase the scope of the AD.

Cost Impact

There are approximately 403 Model 757-200 series airplanes of the affected design in the worldwide fleet. We estimate that 219 airplanes of U.S. registry will be affected by this AD.

The required inspection will take up to 2 work hours per airplane (1 work hour per side of the airplane), at the average labor rate of $60 per work hour. Based on these figures, the cost impact of the inspection required by this AD on U.S. operators is estimated to be up to $26,280, or $120 per airplane.

Should an operator be required to do the installation, it will take up to 2 work hours per airplane (1 work hour per side of the airplane), at the average labor rate of $60 per work hour. Required parts will cost approximately $1,310 per airplane. Based on these figures, the cost impact of this installation is estimated to be $1,430 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons described above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulation (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-26-09 Boeing: Amendment 39-12997. Docket 2000-NM-402-AD.

Applicability: Model 757-200 series airplanes, certificated in any category, as listed in Boeing Service Bulletin 757-25-0194, dated February 11, 1999, and having stowage bins installed forward of door 2 at Station 680.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent failure of the stowage bin attachment fitting at Station 680, which could result in the overhead stowage bin falling onto the passenger seats below and injuring passengers or impeding the evacuation of passengers in an emergency, accomplish the following:

One-Time Inspection

(a) Within 24 months after the effective date of this AD, do a one-time general visual inspection to determine if an intercostal is installed between stringers 8 and 9 for support of the overhead stowage bin at Station 680, on the left and right sides of the airplane, as applicable, according to Boeing Service Bulletin 757-25-0194, dated February 11, 1999. If an intercostal is installed on each side that has an overhead stowage bin at Station 680, no further action is necessary.

Note 2: For the purpose of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Follow-On Actions

(b) For each side of the airplane that has an overhead stowage bin at Station 680 but no intercostal installed: Before further flight after the inspection required by paragraph (a) of this AD, do a detailed inspection for cracking or damage of stringer 8 and the tie rod mounting assembly according to Boeing Service Bulletin 757-25-0194, dated February 11, 1999. Then, do either paragraph (b)(1) or (b)(2) of this AD.

Note 3: For the purpose of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) Repeat the detailed inspection for cracking or damage of stringer 8 and the tie rod mounting assembly every 18 months, and within 60 months after the effective date of this AD, do paragraph (b)(2) of this AD.

(2) Before further flight, install a new intercostal between stringers 8 and 9, according to the service bulletin. This installation terminates the repetitive inspections specified in paragraph (b)(1) of this AD.

Repair of Cracking or Damage

(c) If any cracking or damage is found during any detailed inspection required by paragraph (b) of this AD: Before further flight, and before installation of the intercostal, repair per a method approved by the Manager, Seattle Aircraft Certification Office (ACO), FAA; or per data meeting the type certification basis of the airplane approved by a Boeing Company Designated Engineering Representative who has been authorized by the Manager, Seattle ACO, to make such findings. For a repair method to be approved, the approval must specifically reference this AD.

Alternative Methods of Compliance

(d) An alternative method of compliance or adjustment of the compliance time that provides an acceptable level of safety may be used if approved by the Manager, Seattle ACO. Operators shall submit their requests through an appropriate FAA Principal Maintenance Inspector, who may add comments and then send it to the Manager, Seattle ACO.

Note 4: Information concerning the existence of approved alternative methods of compliance with this AD, if any, may be obtained from the Seattle ACO.

Special Flight Permits

(e) Special flight permits may be issued in accordance with §§ 21.197 and 21.199 of the Federal Aviation Regulations (14 CFR 21.197 and 21.199) to operate the airplane to a location where the requirements of this AD can be accomplished.

Incorporation by Reference

(f) Unless otherwise specified in this AD, the actions shall be done in accordance with Boeing Service Bulletin 757-25-1094, dated February 11, 1999, excluding Evaluation Form. This incorporation by reference was approved by the Director of the Federal Register in accordance with 5 U.S.C. 552(a) and 1 CFR part 51. Copies may be obtained form Boeing Commercial Airplane Group, P.O. Box 3707, Seattle, Washington 98124-2207. Copies may be inspected at the FAA, Transport Airplane Directorate, 1601 Lind Avenue, SW., Renton, Washington; or at the Office of the Federal Register, 800 North Capital Street, NW., suite 700, Washington, DC.

Effective Date

(g) This amendment becomes effective on February 10, 2003.

Issued in Renton, Washington, on December 24, 2002.
Vi L. Lipski,
Manager, Transport Airplane Directorate, Aircraft Certification Service.

[FR Doc. 03-20 Filed 1-3-03; 8:45 am]

BILLING CODE 4910-13-M